NUCLEAR REGULATORY COMMISSION

[Docket No. 030-28641]

Consideration of License Amendment to U.S. Air Force Master Materials License and Opportunity for Hearing

AGENCY: Nuclear Regulatory Commission.

ACTION: Notice of consideration of amendment request and opportunity for a hearing.

SUMMARY: The U.S. Nuclear Regulatory Commission is considering issuance of a license amendment to Master Materials License No. 42-23539-01AF, issued to the United States Air Force, to perform remediation in accordance with the submitted decommissioning plan of its OT-10 Radiation Training Sites located on Kirtland Air Force Base, New Mexico, and leading to subsequent release of the property for unrestricted use.

FOR FURTHER INFORMATION CONTACT: Dr. Blair Spitzberg, Chief Fuel Cycle Decommissioning Branch (FCDB) at (817) 860-8191 or Rachel Carr, FCDB at (817) 276-6552.

SUPPLEMENTARY INFORMATION: On July 14, 2000, the licensee submitted a decommissioning plan (DP) to the NRC for review that summarized the decommissioning activities which will be undertaken to remediate four training sites on the north central part of Kirtland Air Force Base. The area of land on this part of the base had been used since 1961 until 1990 as a site for the education and training of U.S. Department of Defense (DOD), U.S. Department of Energy (DOE) and Federal Emergency Management Agency (FEMA) and other federal and state personnel as radiological incident responders to detect contaminants generated during a simulated radiological incident. The surface area is seeded with known quantities of Brazilian thorium oxide sludge which was applied and tilled into site solids to simulate dispersed plutonium. The sites are owned by the U.S. Government and are regulated by the Nuclear Regulatory Commission under the United States Air Force Master Materials License 42-23539-01AF.

The NRC will require the licensee to remediate the four radiation training sites to meet NRC's decommissioning criteria and, during decommissioning activities, to maintain doses within NRC requirements and as low as reasonably achievable.

NRC Approval Process

Prior to approving the decommissioning plan, NRC will have made findings required by the Atomic Energy Act of 1954, as amended, and NRC's regulations. These findings will be documented in an Environmental Assessment. The Environmental Assessment may also lead to the development of an Environmental Impact Statement if the NRC is unable to support the Finding of No Significant Impact (FONSI). A FONSI briefly states the reasons why an action will not have a significant impact on the human environment. The FONSI must be published in the Federal Register prior to approval of a DP supported by an Environmental Assessment.

Documents

The Decommissioning Plan submitted by Kirtland Air Force Base is available for public inspection from the Publicly Available Records (PARS) component of NRC's document system (ADAMS). The Accession Number for the document is (ML011560740). ADAMS is accessible from the NRC web site at http://www.nrc.gov/NRC/ADAMS/index.html (the Public Electronic Reading Room). Assistance with the Public Electronic Reading Room may be obtained by calling (800) 397-4209.

Notice of Opportunity for Hearing

The NRC hereby provides notice that this is a proceeding on an application for amendment of a license falling within the scope of subpart L, “Informal Hearing Procedures for Adjudications in Materials and Operator Licensing Proceedings,” of NRC's rules of practice for domestic licensing proceedings in 10 CFR Part 2. Pursuant to § 2.1205(a), any person whose interest may be affected by the proceeding may file a request for a hearing in accordance with § 2.1205(d). A request for a hearing must be filed within thirty (30) days of the date of publication of this Federal Register notice.

The request for a hearing must be filed with the office of the Secretary either:

1. By delivery to the Rulemakings and Adjudications Staff of the Office of the Secretary at One White Flint North, 11555 Rockville Pike, Rockville MD 20852-2738; or

2. By mail, telegram or facsimile addressed to the Secretary, U.S. Nuclear Regulatory Commission, Washington DC 20555-0001. Attention: Rulemakings and Adjudications Staff.

In addition to meeting other applicable requirements of 10 CFR Part 2 of the NRC's regulations, a request for a hearing filed by a person other than an applicant must describe in detail:

1. The interest of the requestor in the proceeding;

2. How that interest may be affected by the results of the proceeding, including the reasons why the requestor should be permitted a hearing, with particular reference to the factors set out in § 2.1205(h);

3. The requester's area of concern about the licensing activity that is the subject matter of the proceeding; and

4. The circumstances establishing that the request for a hearing is timely in accordance with 2.1205(d)—that is, filed within 30 days of the date of this notice.

In accordance with 10 CFR 2.1205(f), each request for a hearing must also be served, by delivering it personally or by mail, to:

1. The applicant, Department of the Air Force, USAF Radioisotope Committee, HQ AFMOA/SGZR, 110 Luke Ave, Suite 405, Bolling AFB, DC 20322-7050; and

2. The NRC staff, by delivery to the General Counsel, One White Flint North, 11555 Rockville Pike, Rockville, MD 20852, or by mail, addressed to the General Counsel, U.S. Nuclear Regulatory Commission, Washington, DC 20555.

Dated at Arlington, Texas, this 13th day of June, 2001.
For the Nuclear Regulatory Commission.
D. Blair Spitzberg,
Chief, Fuel Cycle Decommissioning Branch, Division of Nuclear Materials Safety, Region IV.

[FR Doc. 01-15708 Filed 6-21-01; 8:45 am]

BILLING CODE 7590-01-P